DEPARTMENT OF VETERANS AFFAIRS

Advisory Committee on CARES Business Plan Studies; Notice of Meeting

The Department of Veterans Affairs (VA) gives notice under the Public Law 92-463 (Federal Advisory Committee Act) that the Advisory Committee on CARES Business Plan Studies will meet as indicated below. The meetings are open to the public.

Location | Date | Time
Canandaigua VA Medical Center, Building 5, Auditorium, 400 Fort Hill Avenue, Canandaigua, NY 14424 | Tuesday, August 30, 2005 | 11 a.m. until 6:30 p.m.
Montogomery Museum of Fine Arts, Wilson Auditorium, One Museum Way, Montgomery, Alabama 36123 | Thursday September 1, 2005 | 10 a.m. until 5 p.m.
Howard College Dorothy Garret Coliseum, 1001 Birdwell Lane, Big Spring, TX 79720 | Thursday, September 1, 2005 | 8 a.m. until 6 p.m.

The purpose of the Committee is to provide advice to the Secretary of Veterans Affairs on proposed business plans at those VA facility sites identified in May 2004 as requiring further study by the Capital Asset Realignment for Enhanced Services (CARES) Decision document.

The agenda at each meeting will include a discussion of the potential CARES Business Plan options for each site. The options have been developed by the VA contractor. The agenda will provide time for public comments on the options and for discussion of which options should be considered by the Secretary for further analysis and development in the next stage of the Business Plan Option development process.

Interested persons may attend and present oral or written statements to the Committee. For additional information regarding the meetings, please contact Mr. Jay Halpern, Designated Federal Officer, (00CARES), 810 Vermont Avenue, NW., Washington, DC 20024, by phone at (202) 273-5994, or by e-mail at jay.halpern@va.gov.

Dated: August 2, 2005.
By Direction of the Secretary.
E. Phillip Riggin,
Committee Management Officer.

[FR Doc. 05-15663 Filed 8-8-05; 8:45 am]

BILLING CODE 8320-01-M